DEPARTMENT OF TRANSPORTATION

Federal Transit Administration

Announcement of Fiscal Year 2022 Low or No Emission Program and Grants for Buses and Bus Facilities Program and Project Selections

AGENCY: Federal Transit Administration (FTA), Department of Transportation (DOT).

ACTION: Notice; announcement of project selections.

SUMMARY: The U.S. Department of Transportation's (DOT) Federal Transit Administration (FTA) announces the award of a total of $1,656,696,061, including $1,105,329,750 to projects under the Fiscal Year (FY) 2022 Low or No Emission Grant Program (Low-No) and $551,366,311 to projects under the Grants for Buses and Bus Facilities Program (Buses and Bus Facilities Program) and provides administrative guidance on project implementation.

FOR FURTHER INFORMATION CONTACT: Successful applicants should contact the appropriate FTA Regional Office for information regarding applying for the funds or program-specific information. A list of Regional Offices can be found at https://www.transit.dot.gov/about/regional-offices/regional-offices. Unsuccessful applicants may contact Amy Volz, Office of Program Management at (202) 366-7484, or email: amy.volz@dot.gov within 30 days of this announcement to arrange a proposal debriefing. A TDD is available at 1-800-877-8339 (TDD/FIRS).

SUPPLEMENTARY INFORMATION: Federal public transportation law (49 U.S.C. 5339(b)) authorizes FTA to make competitive grants for the Buses and Bus Facilities Program. Federal public transportation law (49 U.S.C. 5339(c)) authorizes FTA to make competitive grants for the Low-No Program.

Federal public transportation law (49 U.S.C. 5338(a)(2)(M)) authorized $375,696,244 in FY 2022 funds for the Grants for Buses and Bus Facilities Program. The Consolidated Appropriations Act, 2022 (Pub. L. 117-103), appropriated an additional $175,000,000 for the Grants for Buses and Bus Facilities Program. After the oversight takedown of $4,666,931, the total funding is $546,029,313 for the Grants for Buses and Bus Facilities Program. FTA is also making available an additional $5,479,636 of recovered funding for this round, bringing the total available funding to $551,508,949.

Federal public transportation law (49 U.S.C. 5338(a)(2)(M)) authorized $71,561,189 in FY 2022 funds for the Low or No Emission Grant Program; plus an additional $1,050,000,000 appropriated under the 2021 Bipartisan Infrastructure Law (enacted as the Infrastructure Investment and Jobs Act, Pub. L. 117-58). The Consolidated Appropriations Act, 2022, appropriated an additional $75,000,000 for the Low or No Emission Grant Program. After the oversight takedown and transfer to Office of Inspector General, the total funding available is $1,174,998,689 for the Low-No Program.

On March 4, 2022, FTA published a joint Notice of Funding Opportunity (NOFO) (87 FR 12528) announcing the availability of approximately $372 million in FY 2022 Buses and Bus Facilities Program funds and approximately $1.1 billion in Low-No funds. After this NOFO was published, Congress enacted the FY22 Consolidated Appropriations Act, which made additional funding available to the two programs. Consistent with the NOFO, which stated that FTA “may award additional funding that is made available to the programs prior to the announcement of project selections,” FTA is electing to add the FY22 Consolidated Appropriations Act funding made available for both programs to this NOFO. These funds will provide financial assistance to states and eligible public agencies to replace, rehabilitate, purchase, or lease buses, vans, and related equipment, and for capital projects to rehabilitate, purchase, construct, or lease bus-related facilities. For the Low-No Program, projects must be directly related to the low or no-emission vehicles within the fleet. In response to the NOFO, FTA received 530 eligible project proposals totaling approximately $7.71 billion in Federal funds. Project proposals were evaluated based on each applicant's responsiveness to the program evaluation criteria outlined in the NOFO.

Based on the criteria in the NOFO, FTA is funding 100 projects, as shown in Table 1, for a total of $1,105,329,750 for the Low-No Program and 50 projects, as shown in Table 2, for a total of $551,366,311 for the Buses and Bus Facilities Program. A minimum of 15 percent of the amounts made available for the Buses and Bus Facilities Program are set aside for projects located in rural areas, which is reflected in FTA's selections. A statutory cap of 10 percent for any one applicant in the Buses and Bus Facilities Program is reflected as well. A minimum of 25 percent of the amounts made available for the Low or No Emission Grant Program are set aside for projects related to the acquisition of low or no emission buses or bus facilities other than zero emission vehicles and related facilities. In response to this NOFO, FTA did not receive enough applications to the Low or No Emission Grant Program for low emission projects to exhaust this set-aside. FTA intends to include the remainder of this set-aside in the next NOFO that it issues for the Low-No Emission Grant Program. Recipients selected for competitive funding are required to work with their FTA Regional Office to submit a grant application in FTA's Transit Award Management System (TrAMS) for the projects identified in the attached table to quickly obligate funds. Grant applications must include only eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced. Pre-award authority does not guarantee that project expenses incurred prior to the award of a grant will be eligible for reimbursement, as eligibility for reimbursement is contingent upon other requirements, such as planning and environmental requirements, having been met. For more about FTA's policy on pre-award authority, please see the current FTA Apportionments, Allocations, and Program Information at https://www.transit.dot.gov/funding/apportionments. Post-award reporting requirements include submission of Federal Financial Reports and Milestone Progress Reports in TrAMS (see FTA Circular 5010.1E). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1). Funds allocated in this announcement must be obligated in a grant by September 30, 2025.

Technical Review and Evaluation Summary: The FTA assessed all project proposals that were submitted under the FY 2022 Buses and Bus Facilities Program and the Low or No Emission Program competition according to the following evaluation criteria. The specific metrics for each criterion were described in the March 4, 2022, NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories overall, with no Not Recommended ratings. Projects were assigned a final overall rating of Recommended if the projects had three or more Recommended ratings and no Not Recommended ratings. Projects were assigned a rating of Not Recommended if they received a Not Recommended rating in any criteria. A summary of the final overall ratings for all 530 eligible project proposals is shown in the table below.

Overall Project Ratings
[Eligible submissions]
| Bus | Low-No | Total
Highly Recommended | 245 | 215 | 460
Recommended | 15 | 12 | 27
Not Recommended | 22 | 21 | 43
Total | 282 | 248 | 530

As outlined in the NOFO, FTA made the final selections based on the technical ratings as well as geographic diversity, diversity in the size of transit systems receiving funding, Administration priorities including climate change, the creation of good-paying jobs, an application's zero-emission fleet transition plan supporting a full fleet transition, and/or receipt of other recent competitive awards.

As further outlined in the NOFO, in some cases, due to funding limitations, proposers that were selected for funding received less than the amount originally requested.

Nuria I. Fernandez,
Administrator.

Table 1—FY 2022 Low or No Emission Project Selections
[Note: Some projects have multiple Project IDs]
State | Recipient | Project ID | Project description | Award
AK | Fairbanks North Star Borough | D2022-LWNO-001 | Purchase CNG buses and paratransit vehicles | $2,494,728
AK | Ketchikan Gateway Borough, The Bus | D2022-LWNO-002 | Purchase battery electric buses and associated infrastructure | 4,285,436
AL | Birmingham-Jefferson County Transit Authority | D2022-LWNO-003 | Construct a new maintenance facility and purchase zero-emission buses | 13,654,636
AL | The Board of Trustees of The University of Alabama | D2022-LWNO-004 | Replace diesel buses with battery electric and associated infrastructure | 7,890,065
AR | City of Jonesboro, Arkansas | D2022-LWNO-005 | Purchase hybrid buses to replace diesel buses | 878,584
AZ | City of Phoenix Public Transit Department | D2022-LWNO-006 | Zero-emission bus procurement and associated infrastructure | 16,362,600
AZ | City of Tucson, Sun Tran/Sun Van | D2022-LWNO-007 | Battery electric bus procurement and associated charging equipment | 12,112,400
CA | City of Gardena | D2022-LWNO-009 | Battery electric bus replacement | 2,215,647
CA | City of Roseville | D2022-LWNO-010 | Purchase battery electric buses to replace diesel and gasoline transit vehicles and associated infrastructure | 11,617,236
CA | City of Santa Maria | D2022-LWNO-011 | Purchase battery electric buses to replace diesel buses | 6,664,318
CA | City of Union City—Union City Transit | D2022-LWNO-012 | Replace CNG vehicles with battery electric vehicles and associated infrastructure | 9,342,346
CA | Fresno, City of | D2022-LWNO-013 | Facility upgrades to accommodate hydrogen fuel cell buses and purchase low and no emission vehicles for replacement and expansion | 17,367,042
CA | Gold Coast Transit District | D2022-LWNO-014 | Purchase hydrogen fuel cell buses to replace CNG buses and a hydrogen fueling station and facility upgrades | 12,117,144
CA | Los Angeles County Metropolitan Transportation Authority ('Metro') | D2022-LWNO-015 | Purchase battery electric buses and associated infrastructure | 104,160,000
CA | Napa Valley Transportation Authority | D2022-LWNO-016 | Purchase battery electric buses and associated infrastructure | 6,341,892
CA | Omnitrans | D2022-LWNO-017 | Purchase hydrogen fuel cell buses and associated infrastructure | 9,342,502
CA | Orange County Transportation Authority | D2022-LWNO-018 | Battery electric bus procurement | 2,507,895
CA | Riverside Transit Agency | D2022-LWNO-019 | Replaced CNG buses with hydrogen fuel cell buses | 5,153,594
CA | San Joaquin Regional Transit District (RTD) | D2022-LWNO-020 | Purchase hybrid buses for fleet expansion | 3,994,277
CA | SunLine Transit Agency | D2022-LWNO-021 | Purchase hydrogen fuel cell buses and infrastructure upgrades | 7,819,257
CA | SunLine Transit Agency | D2022-LWNO-022 | Purchase battery electric buses and associated infrastructure | 7,146,793
CO | Mesa County | D2022-LWNO-023 | Low emission bus replacement | 1,056,984
CO | Mesa County | D2022-LWNO-024 | Construct a CNG maintenance facility | 2,844,274
CO | State of Colorado, Department of Transportation | D2022-LWNO-025 | Replace diesel buses with low emission buses | 2,353,400
DC | District Department of Transportation | D2022-LWNO-026 | Replace diesel buses with battery electric | 9,590,000
FL | Central Florida Regional Transportation Authority, dba LYNX | D2022-LWNO-027 | Replace gasoline vehicles with battery electric and associated infrastructure | 16,132,025
FL | Florida Department of Transportation | D2022-LWNO-028 | Replace bio-diesel buses with CNG buses | 6,478,370
FL | Jacksonville Transportation Authority | D2022-LWNO-029 | Replacing diesel buses with CNG and infrastructure for electric buses | 15,417,310
FL | Lee County Board of County Commissioners | D2022-LWNO-030 | Purchase battery electric buses and associated infrastructure | 3,863,430
GA | Augusta Richmond County | D2022-LWNO-031 | Replace diesel buses with battery electric and associated infrastructure | 6,271,325
GA | Chatham Area Transit Authority | D2022-LWNO-032 | Replace diesel buses with battery electric | 5,451,844
GA | Metropolitan Atlanta Rapid Transit Authority (MARTA) | D2022-LWNO-033 | Replace CNG buses with battery electric and associated infrastructure | 19,302,650
HI | Hawaii Department of Transportation (HDOT) | D2022-LWNO-034 | Replace diesel buses with battery electric and hydrogen fuel cell and supporting infrastructure | 23,186,682
HI | Honolulu Department of Transportation Services | D2022-LWNO-035 | Replace diesel buses with battery electric | 20,000,000
IA | City of Davenport, Iowa | D2022-LWNO-036 | Replace diesel buses with battery electric and associated infrastructure | 4,874,993
ID | Valley Regional Transit | D2022-LWNO-037 | Battery electric expansion vehicles and associated infrastructure | 17,386,450
IL | Decatur Public Transit System | D2022-LWNO-038 | Infrastructure and equipment for battery electric buses | 16,840,000
IL | Rockford Mass Transit District | D2022-LWNO-039 | Replace diesel buses with battery electric and hybrid | 6,328,980
IL | Springfield Mass Transit District | D2022-LWNO-040 | Replace diesel buses with hybrid and CNG | 5,927,788
IN | Bloomington Public Transportation Corporation | D2022-LWNO-041 | Purchase battery electric buses and associated infrastructure | 7,040,000
KS | City of Lawrence, KS—Lawrence Transit | D2022-LWNO-042 | Replace diesel and hybrid buses with battery electric | 3,279,655
KS | City of Wichita | D2022-LWNO-043 | Purchase battery electric paratransit vehicles and associated infrastructure | 3,951,078
KY | Transit Authority of Lexington-Fayette Urban County Government | D2022-LWNO-044 | Replace diesel buses with CNG and associated infrastructure | 6,359,880
KY | Transit Authority of Northern Kentucky | D2022-LWNO-045 | Replace diesel buses with hybrid | 3,091,200
LA | Jefferson Parish | D2022-LWNO-046 | Construct a new facility and hybrid vehicles | 6,880,000
MA | Berkshire Regional Transit Authority | D2022-LWNO-047 | Replaced diesel buses with hybrid and facility upgrades | 2,457,328
MA | Massachusetts Bay Transportation Authority | D2022-LWNO-048 | Replace diesel buses with battery electric | 116,000,000
MA | Massachusetts Department of Transportation (MassDOT) | D2022-LWNO-049 | Replace diesel buses with electric and propane | 4,143,750
MA | Southeastern Regional Transit Authority | D2022-LWNO-050 | Replace diesel buses with hybrid | 12,240,000
MD | Maryland Transit Administration—Anne Arundel County | D2022-LWNO-051 | Hybrid bus replacement | 1,890,000
MD | Montgomery County (MD) Department of Transportation | D2022-LWNO-052 | Purchase hydrogen fuel cell buses and associated infrastructure | 14,875,975
ME | Biddeford-Saco-Old Orchard Beach Transit Committee | D2022-LWNO-053 | Replace diesel buses with battery electric | 2,047,407
MI | City of Midland Dial-A-Ride | D2022-LWNO-054 | Replace gas powered vehicles with electric | 167,257
MI | Mass Transportation Authority | D2022-LWNO-055 | Replace hybrid buses with hydrogen fuel cell buses and associated infrastructure | 4,334,800
MN | Bois Forte Band of Chippewa | D2022-LWNO-056 | Purchase propane buses | 739,500
MN | Minnesota Department of Transportation | D2022-LWNO-057 | Replace conventional buses with battery electric and associated infrastructure | 3,414,680
MN | Prairie Island Indian Community | D2022-LWNO-058 | Replace gasoline vehicles with battery electric | 1,616,426
MN | SouthWest Transit | D2022-LWNO-059 | Purchase battery electric buses and associated infrastructure | 8,127,891
MO | Bi-State Development Agency of the Missouri-Illinois Metropolitan District | D2022-LWNO-060 | Replace diesel buses with battery electric and associated infrastructure | 5,412,960
MO | The City of Columbia | D2022-LWNO-061 | Purchase battery electric buses and associated infrastructure | 2,896,675
MS | JACKSON, CITY OF | D2022-LWNO-062 | Facility upgrades and purchase low and zero emission vehicles and associated infrastructure | 8,714,400
MT | City of Billings, MET Transit Division | D2022-LWNO-063 | Purchase electric buses and associated infrastructure | 3,880,316
MT | Missoula Urban Transportation District | D2022-LWNO-064 | Replace diesel buses with battery electric and associated infrastructure | 10,909,127
NC | City of Asheville | D2022-LWNO-065 | Purchase hybrid buses and replacement electric battery packs | 4,291,650
NC | City of Concord | D2022-LWNO-066 | Hybrid bus replacement | 713,813
NC | City of Durham | D2022-LWNO-067 | Replace diesel buses with battery electric | 5,745,600
NC | City of Fayetteville | D2022-LWNO-068 | Replaced diesel and gasoline vehicles with battery electric and propane | 280,500
NM | City of Las Cruces | D2022-LWNO-069 | Replace diesel buses with battery electric | 5,721,073
NM | New Mexico Department of Transportation | D2022-LWNO-070 | Purchase battery electric buses and associated infrastructure | 2,511,882
NV | Regional Transportation Commission of Southern Nevada | D2022-LWNO-071 | Purchase hydrogen fuel cell buses | 6,737,042
NY | Capital District Transportation Authority | D2022-LWNO-072 | Purchase battery electric buses and associated infrastructure | 25,417,053
NY | Metropolitan Transportation Authority | D2022-LWNO-073/D2022-LWNO-104 | Purchase battery electric buses | 116,000,000
NY | Rochester Genesee Regional Transportation Authority | D2022-LWNO-074 | Purchase hydrogen fuel cell buses and associated infrastructure | 7,043,331
NY | Tompkins County, New York on behalf of Tompkins Consolidated Area Transit (TCAT) | D2022-LWNO-075 | Replace diesel buses with battery electric | 8,740,975
OH | Central Ohio Transit Authority (COTA) | D2022-LWNO-076 | Replace diesel buses with battery electric buses and associated infrastructure | 26,714,004
OH | Stark Area Regional Transit Authority | D2022-LWNO-077 | Purchase hydrogen fuel cell and CNG vehicles and construct a microgrid | 2,393,600
OH | The Portage Area Regional Transportation Authority | D2022-LWNO-078 | Replace diesel vehicles with CNG vehicles | 3,201,270
OK | Central Oklahoma Transportation and Parking Authority (COTPA), dba EMBARK | D2022-LWNO-079 | Purchase CNG and electric vehicles | 6,745,732
OK | City of Norman, Oklahoma | D2022-LWNO-080 | Purchase CNG replacement buses | 894,963
OK | Metropolitan Tulsa Transit Authority | D2022-LWNO-081 | Replace diesel buses with zero-emission buses | 6,666,105
OK | Metropolitan Tulsa Transit Authority | D2022-LWNO-082 | Purchase replacement and expansion buses | 4,800,375
OR | City of Corvallis | D2022-LWNO-083 | Replace diesel buses with battery electric | 2,658,068
OR | Oregon Department of Transportation, Public Transportation Division | D2022-LWNO-084 | Purchase battery electric buses and associated infrastructure | 2,081,883
PA | Southeastern Pennsylvania Transportation Authority | D2022-LWNO-085 | Upgrade infrastructure to accommodate battery electric buses | 23,360,000
PR | AUTORIDAD METROPOLITANA DE AUTOBUSES (PRMBA) | D2022-LWNO-086 | Replace diesel buses with battery electric and install solar powered charging | 10,000,000
SC | City of Clemson dba Clemson Area Transit | D2022-LWNO-088 | Replace diesel buses with battery electric | 3,930,000
SD | South Dakota Department Of Transportation | D2022-LWNO-089 | Purchase propane vehicles | 1,067,774
TN | Memphis Area Transit Authority (MATA) | D2022-LWNO-090 | Purchase battery electric buses and associated infrastructure | 22,378,905
TX | City of El Paso Mass Transit Department-Sun Metro | D2022-LWNO-091 | Purchase battery electric paratransit vehicles and associated infrastructure | 8,876,712
TX | City of Laredo and Laredo Transit Management Inc. | D2022-LWNO-092 | Replace diesel vehicles with CNG | 7,430,385
TX | City of Lubbock | D2022-LWNO-093 | Purchase hybrid buses | 39,600,000
TX | Metropolitan Transit Authority of Harris County (METRO) | D2022-LWNO-094 | Purchase battery electric buses and associated infrastructure | 21,586,913
VA | City of Suffolk | D2022-LWNO-096 | Purchase battery electric buses and associated infrastructure | 565,000
VA | Old Dominion Transit Management Company | D2022-LWNO-097 | Facility upgrades for transit vehicles | 952,192
VA | Old Dominion Transit Management Company | D2022-LWNO-098 | Replace diesel buses with CNG | 10,032,000
VT | Vermont Agency of Transportation (VTrans) | D2022-LWNO-099 | Purchase battery electric buses | 9,151,125
WA | Central Puget Sound Regional Transit Authority | D2022-LWNO-100 | Purchase battery electric buses and associated infrastructure | 9,264,000
WA | Pierce County Public Transportation Benefit Area Corporation | D2022-LWNO-101 | Replace CNG buses with battery electric and associated infrastructure | 3,870,800
WA | Whatcom Transportation Authority (WTA) | D2022-LWNO-102 | Replace diesel buses with battery electric and associated infrastructure | 8,862,951
WI | City of Racine | D2022-LWNO-103 | Replace diesel buses with battery electric | 3,796,872
Total |  |  |  | 1,105,329,750

Table 2—FY 2022 Grants for Buses and Bus Facilities Project Selections
State | Recipient | Project ID | Project description | Award
AK | Alaska DOT on behalf of City and Borough of Juneau, Capital Transit | D2022-BUSC-100 | Maintenance facility rehabilitation and modernization | $2,264,000
AK | Gulkana Village Council | D2022-BUSC-101 | Construction of multi-purpose operations and maintenance facility | 4,207,093
AK | Metlakatla Indian Community | D2022-BUSC-102 | Battery electric bus and charger to establish new service | 402,257
CA | California DOT on behalf of Redwood Coast Transit Authority | D2022-BUSC-103 | Bus replacement for rural service | 296,000
CA | City of Fairfield | D2022-BUSC-104 | Battery electric buses and chargers and maintenance facility upgrade | 12,016,400
CA | Riverside Transit Agency | D2022-BUSC-105 | Solar panel installation and workforce training for new technologies | 1,594,364
CA | Santa Clara Valley Transportation Authority (VTA) | D2022-BUSC-106 | Battery electric buses and additional chargers to extend service range | 15,588,800
CA | Yurok Tribe | D2022-BUSC-107 | Construction of a bus facility with charging capacity and passenger amenities | 1,280,000
CO | Colorado Department of Transportation (CDOT) | D2022-BUSC-108 | Battery electric buses and chargers | 1,814,882
CO | State of Colorado, Department of Transportation | D2022-BUSC-109 | Replacement vehicles and new vehicles to improve and expand service | 2,568,000
CO | State of Colorado, Department of Transportation | D2022-BUSC-110 | Compressed Natural Gas and diesel replacement buses | 5,721,272
CO | State of Colorado, Department of Transportation | D2022-BUSC-111 | Bus facility construction to support electrification | 34,765,737
CT | Connecticut Department of Transportation (CTDOT) | D2022-BUSC-112 | Bus facility rehabilitation and modernization and purchase of battery electric buses | 20,394,000
DE | Delaware Transit Corporation | D2022-BUSC-113 | Zero-emission vehicle replacement buses | 11,000,000
HI | Hawaii Department of Transportation (HDOT) | D2022-BUSC-114 | Transit center accessibility improvements and upgrades and new vehicles | 12,000,000
IA | Iowa Department of Transportation | D2022-BUSC-115 | Vehicle replacement for 26 of Iowa's transit systems statewide | 12,000,000
IA | Iowa Department of Transportation (IADOT) | D2022-BUSC-116 | Zero-emission vehicle replacement buses in rural areas | 15,844,561
ID | Transportation, Idaho Department | D2022-BUSC-117 | Commuter vans to expand vanpool service | 384,000
IL | Bloomington-Normal Public Transit System | D2022-BUSC-118 | Zero-emission vehicles, including for microtransit service, and support facility construction | 13,076,800
IL | Chicago Transit Authority (CTA) | D2022-BUSC-119 | Electric buses and maintenance facility conversion and modernization | 28,836,080
IN | Indianapolis Public Transportation Corporation | D2022-BUSC-120/D2022-BUSC-121 | Fleet Storage, Maintenance Terminal, and Operations Center construction | 33,000,000
KY | Kentucky Transportation Cabinet | D2022-BUSC-122 | Replacement vehicles, expansion vehicles, and supporting technology for rural providers across the state | 3,265,592
KY | Transit Authority of River City (TARC) | D2022-BUSC-123 | Battery electric replacement buses and chargers | 7,411,032
MA | Pioneer Valley Transit Authority | D2022-BUSC-124 | Bus facility modernization and battery electric replacement buses | 54,000,000
MD | Prince Georges County Government | D2022-BUSC-125 | Battery electric buses and chargers and microgrid construction | 25,000,000
MI | City of Detroit | D2022-BUSC-126 | Battery electric buses and chargers | 6,912,404
MI | Michigan Department of Transportation | D2022-BUSC-127 | Traditional, zero-emission, and propane replacement buses for small and rural transit agencies statewide | 12,000,000
MN | MN Chippewa Tribe-White Earth Band of Chippewa Indians | D2022-BUSC-128 | Multi-purpose bus facility construction | 3,607,642
MT | Blackfeet Tribe | D2022-BUSC-129 | Bus facility expansion | 1,375,920
NC | Town of Cary | D2022-BUSC-130 | Multi-purpose bus facility construction | 11,787,275
ND | City of Grand Forks | D2022-BUSC-131 | Bus facility modernization and rehabilitation | 7,768,742
NH | Cooperative Alliance for Seacoast Transportation | D2022-BUSC-132 | Multi-purpose bus facility construction | 7,736,284
NJ | New Jersey Transit Corporation | D2022-BUSC-133 | Multi-purpose bus facility construction | 44,677,500
NM | City of Las Cruces | D2022-BUSC-134/D2022-BUSC-135 | Maintenance and operations center expansion and upgrades to support battery electric fleet | 2,170,214
NM | New Mexico Department of Transportation | D2022-BUSC-136/D2022-BUSC-137 | Battery electric replacement buses and chargers | 3,071,882
NV | Pyramid Lake Paiute Tribe | D2022-BUSC-138 | Bus purchase and rehabilitation | 115,000
NY | Rochester Genesee Regional Transportation Authority | D2022-BUSC-139/D2022-BUSC-140 | Bus operations and maintenance facility construction | 16,000,000
OR | Oregon Department of Transportation, Public Transit Division | D2022-BUSC-141 | Vehicle replacement | 1,050,000
OR | Oregon Department of Transportation, Public Transit Division | D2022-BUSC-142 | Vehicles for microtransit service | 612,000
OR | Oregon Department of Transportation, Public Transportation Division | D2022-BUSC-143 | Bus maintenance facility and battery electric buses and chargers | 4,632,050
OR | Tri-County Metropolitan Transportation District of Oregon | D2022-BUSC-144/D2022-BUSC-145 | Bus facility relocation and expansion | 5,566,583
SD | South Dakota Department of Transportation | D2022-BUSC-146 | Bus facility construction | 692,758
TN | Memphis Area Transit Authority (MATA) | D2022-BUSC-147 | Bus operations and maintenance facility construction and solar panels | 54,000,000
TN | Tennessee Department of Transportation, Division of Multimodal Transportation Resources | D2022-BUSC-148/D2022-BUSC-149 | Bus and paratransit vehicle replacement in urban and rural areas | 12,000,000
TX | Capital Metropolitan Transportation Authority | D2022-BUSC-150 | Demand response operations and maintenance facility construction | 20,000,000
UT | Utah Department of Transportation | D2022-BUSC-151/D2022-BUSC-152 | Battery electric buses and chargers | 6,095,770
VT | Vermont Agency of Transportation | D2022-BUSC-153 | Multi-purpose bus facility construction | 3,279,616
WA | Cowlitz Indian Tribe | D2022-BUSC-154 | Bus facility rehabilitation | 185,368
WA | Lummi Indian Business Council | D2022-BUSC-155 | Multi-purpose bus facility construction | 1,876,265
WA | Washington State Department of Transportation | D2022-BUSC-156 | Bus replacement for rural transit agencies | 5,422,168
Total |  |  |  | 551,366,311

[FR Doc. 2022-17751 Filed 8-17-22; 8:45 am]

BILLING CODE 4910-57-P